DEPARTMENT OF TRANSPORTATION

Federal Highway Administration

Supplemental Environmental Impact Statement: City of Charlottesville and Albemarle County, Virginia

AGENCY: Federal Highway Administration, DOT.

ACTION: Notice of Intent.

SUMMARY: The Federal Highway Administration (FHWA) is issuing this notice to advise the public of its intent to prepare a supplemental Environmental Impact Statement (EIS) in cooperation with the Virginia Department of Transportation (VDOT) to more thoroughly examine the impacts associated with the selected bypass alternative (Alternative 10) from the Route 29 Corridor Study final EIS and the subsequent changes to the termini on the South Fork Rivanna River Reservoir and archeological resources not previously accounted for.

FOR FURTHER INFORMATION CONTACT: Edward Sundra, Senior Environmental Specialist, Federal Highway Administration, Post Office Box 10249, Richmond, Virginia 23240-0249, Telephone 804-775-3338.

SUPPLEMENTARY INFORMATION: In the late-1980s, an EIS was initiated to address congestion on Route 29 through the City of Charlottesville and Albemarle County in central Virginia. In 1993, a Record of Decision (ROD) was issued by FHWA which identified a series of improvements to address the project's purpose and need. This series of improvements included a bypass alternative known as Alternative 10 located west of existing Route 29. Shortly after issuing the ROD, changes were requested by the localities to the termini of the bypass. To address these changes, an Environmental Assessment was prepared which concluded that a supplemental EIS was not required. In 1996, a Reevaluation was initiated to address design changes to the bypass recommended by a local design advisory committee as well as other issues that arose since the EA. In 1998, litigation was brought against the project by the Southern Environmental Law Center on behalf of the Piedmont Environmental Council and Sierra Club alleging violations of the National Environmental Policy Act and section 4(f) of the U.S. Department of Transportation Act of 1966. On March 13, 2000, FHWA completed its Reevaluation and issued a revised ROD documenting the changes to the selected alternative and the mitigation for the bypass. In August of 2001, a judge for the United States District Court in the City of Charlottesville rendered his decision on the litigation granting the plaintiffs motion for summary judgment in part. As a result, the Court enjoined further action on the project until a supplemental EIS was completed which addressed the issues enumerated in the judge's memorandum opinion—impacts to the South Fork Rivanna River Reservoir and archeological resources which had not been previously considered. On the other eight counts raised by the plaintiffs, the judge granted the defendants' motion for summary judgment concluding that FHWA adequately considered the issues raised by the plaintiffs in the NEPA process and were not arbitrary and capricious in rendering its decision. Therefore, this supplemental EIS will be of limited scope with the purpose of determining whether the FHWA decision for the selected alternative represented by the revised ROD dated March 13, 2001, remains reasonable once the impacts of the bypass on the South Fork Rivanna River Reservoir and archeological resources not currently accounted for are thoroughly examined and considered.

In accordance with 40 CFR 1502.9(c)(4), scoping will not be reinitiated for the project. To support the development of the supplemental EIS, local officials and State and Federal agencies will be coordinated with as necessary, given the limited scope of the supplemental EIS. Letters describing the proposed study and soliciting input will be sent to the appropriate agencies which are known to have an interest or legal role in the project. Once completed, copies of the supplemental EIS will be sent to all recipients of the final EIS for the Route 29 Corridor Study. A public hearing is planned where the draft supplemental EIS will be made available to the public for review and comment prior to and after the hearing. Notices of the public hearing will be given through various forums, including the newspaper, providing the time and place of the meeting along with other relevant information. Any comments that are received during the public comment period that address the issues for which the supplemental EIS is being prepared will be considered before FHWA renders its decision regarding the existing selected alternative. Any comments that are received which address issues which the Court has already determined have been adequately addressed will be reviewed but not considered unless they raise significant new information.

Comments and questions concerning the development of the supplemental EIS and its scope should be directed to FHWA at the address provided above. Preparation of this supplemental EIS does not require the withdrawal of any previous approvals or documents.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: September 14, 2001.
Edward S. Sundra,
Senior Environmental Specialist.

[FR Doc. 01-24287 Filed 9-27-01; 8:45 am]

BILLING CODE 4910-22-M